DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 18, 2011. Address written comments to Statutory Import Programs Staff, Room 3720, U.S. Department of Commerce, Washington, DC 20230. Applications may be examined between 8:30 a.m. and 5 p.m. at the U.S. Department of Commerce in Room 3720.

Docket Number: 11-031. Applicant: Tulane University, 6823 St. Charles Avenue, New Orleans, LA 70118. Instrument: Vitrobot sample preparation robot. Manufacturer: FEI Inc., The Netherlands. Intended Use: The instrument will be used to prepare colloidal suspensions and biological materials for high-resolution imaging with a field emission transmission electron microscope. Justification for Duty-Free Entry: There are no instruments of the same general category being manufactured in the United States that can substitute for the Vitrobot for the intended use. Application accepted by Commissioner of Customs: June 10, 2011.

Docket Number: 11-033. Applicant: Temple University, 1900 N. 13th Street, Philadelphia, PA 19122. Instrument: Super low temperature Scanning Tunneling Microscope. Manufacturer: UNISOKU Co., Ltd., Japan. Intended Use: The instrument will be used in Ph.D. research, to study the electronic properties in solid state superconductors, semiconductors and magnetic materials. Justification for Duty-Free Entry: Instruments of the same general category being manufactured in the United States do not offer the level of low operating temperatures and magnetic field applications required for the intended use. Application accepted by Commissioner of Customs: June 9, 2011.

Docket Number: 11-034. Applicant: University of Chicago, Argonne National Laboratory, 9700 South Cass Avenue, Lemont, IL 60439. Instrument: Solar spectrum simulation array system. Manufacturer: Atlas Material Testing Technology, Germany. Intended Use: The instrument will simulate solar radiation for an existing vehicle and component testing cell, to evaluate vehicle-level control solutions for mitigating temperature-related impacts on energy consumption. Justification for Duty-Free Entry: There are no instruments of the same general category being manufactured in the United States. Application accepted by Commissioner of Customs: June 9, 2011.

Docket Number: 11-035. Applicant: University of California, Los Angeles, 760 Westwood Plaza, Box 77, Los Angeles, CA 90095. Instrument: Slicescope microscope. Manufacturer: Scientifica Ltd., U.K. Intended Use: The instrument will be used to examine the electrochemical properties of neurons, as part of research into the neurochemical effects of addictive drugs. Justification for Duty-Free Entry: There are no instruments of the same general category being manufactured in the United States. Application accepted by Commissioner of Customs: June 10, 2011.

Docket Number: 11-036. Applicant: Smith College, 44 College Lane, Northampton, MA 01063. Instrument: Quanta 450 Electron Microscope. Manufacturer: FEI Company, Czech Republic. Intended Use: The instrument will be used for biological, chemical, geological, and paleontological research, to identify and study a variety of minerals, glass, biofilms, nanotubes, nanofibers and other natural materials. Justification for Duty-Free Entry: There are no instruments of the same general category being manufactured in the United States. Application accepted by Commissioner of Customs: June 10, 2011.

Dated: June 20, 2011.
Gregory W. Campbell,
Director, Subsidies Enforcement Office, Office of Policy, Import Administration.

[FR Doc. 2011-16068 Filed 6-24-11; 8:45 am]

BILLING CODE 3510-DS-P